FEDERAL ACCOUNTING STANDARDS ADVISORY BOARD

Notice of Issuance of Statement of Federal Financial Accounting Standard 39, Subsequent Events: Codification of Accounting and Financial Reporting Standards Contained in the AICPA Statement on Auditing Standards and Technical Release 12, Accrual Estimates for Grant Programs

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has issued Statement of Federal Financial Accounting Standard 39, Subsequent Events: Codification of Accounting and Financial Reporting Standards Contained in the AICPA Statement on Auditing Standards. The FASAB also announces the issuance of Technical Release 12, Accrual Estimates for Grant Programs.

The Standard is available on the FASAB home page http://www.fasab.gov/standards.html. The Technical Release is available on the FASAB home page http://www.fasab.gov/aapc.html.

Copies can be obtained by contacting FASAB at (202) 512-7350.

FOR FURTHER INFORMATION CONTACT: Wendy Payne, Executive Director, at (202) 512-7350.

Authority: Federal Advisory Committee Act, (Pub. L. 92-463).

Dated: August 4, 2010.
Charles Jackson,
Federal Register Liaison Officer.

[FR Doc. 2010-19684 Filed 8-9-10; 8:45 am]

BILLING CODE 1610-02-P